FEDERAL RESERVE SYSTEM

Change in Bank Control Notices; Acquisition of Shares of Bank or Bank Holding Companies; Correction

This notice corrects a notice (FR Doc. 02-23279) published on pages 58053 and 58054 of the issue for Friday, September 13, 2002.

Under the Federal Reserve Bank of San Francisco heading, the entry for James O. Pohlad, and William M. Polad, Los Angeles, California, is revised to read as follows:

1. James O. Pohlad, Robert C. Pohlad, and William M. Pohlad, Los Angeles, California; to acquire additional voting shares of National Mercantile Bancorp, Los Angeles, California, and thereby indirectly acquire additional voting shares of Mercantile National Bank, Los Angeles, California, and South Bay Bank, National Association, Torrance, California.

Comments on this application must be received by September 27, 2002.

Board of Governors of the Federal Reserve System, September 17, 2002.
Jennifer J. Johnson,
Secretary of the Board.

[FR Doc. 02-24100 Filed 9-20-00; 8:45 am]

BILLING CODE 6210-01-S